ENVIRONMENTAL PROTECTION AGENCY

40 CFR Part 52

[EPA-R04-OAR-2012-0385; FRL-9903-23-Region 4]

Approval and Promulgation of Implementation Plans; Florida: General Requirements and Gasoline Vapor Control; Correcting Amendment

AGENCY: Environmental Protection Agency (EPA).

ACTION: Final rule; correcting amendments.

SUMMARY: On June 1, 2009, EPA published a final rule in the Federal Register approving a Florida State Implementation Plan (SIP) revision, submitted through the Florida Department of Environmental Protection (FDEP), related to the State's gasoline vapor recovery program. This correcting amendment corrects errors in the regulatory language in paragraph (c) of EPA's June 1, 2009, final rule.

DATES: Effective on December 2, 2013.

FOR FURTHER INFORMATION CONTACT: Kelly Sheckler, Air Quality Modeling and Transportation Section, Air Planning Branch, Air, Pesticides and Toxics Management Division, U.S. Environmental Protection Agency, Region 4, 61 Forsyth Street, SW., Atlanta, Georgia 30303-8960. The telephone number is (404) 562-9222. Ms. Sheckler can be reached via electronic mail at sheckler.kelly@epa.gov.

SUPPLEMENTARY INFORMATION: This action corrects inadvertent errors in a rulemaking related to Florida's gasoline vapor recovery program SIP provision. In summary, this action corrects the effective date for the Florida rules included in the regulatory text section of EPA's June 1, 2009, final rulemaking (74 FR 26103). Specifically, EPA is correcting the June 1, 2009, final rule to provide the correct effective date for Florida Code Annotated Sections 62-210.300, 62-210.310, 62-210.920, 62-252.200, 62-252.300, 62-252.400, 62-252.500 and 62-296.418 related to the State's gasoline vapor recovery program. In its May 31, 2007, SIP revision, FDEP erroneously listed September 4, 2006, as the effective date for the gasoline vapor recovery program rules. The correct effective date of Florida's rules related to the gasoline vapor recovery program, as provided by FDEP in a November 29, 2012, letter, is May 9, 2007. This action corrects the regulatory text section of EPA's June 1, 2009 final rule approving the Florida “Gasoline Vapor Recovery” SIP revision to reflect a State effective date of May 9, 2007. See 74 FR 26103. Today's action also serves to update the State effective dates of the relevant rules in the Table of EPA-Approved Florida Regulations at 40 CFR 52.520.

EPA has determined that today's actions fall under the “good cause” exemption in section 553(b)(3)(B) of the Administrative Procedure Act (APA) which, upon finding “good cause,” authorizes agencies to dispense with public participation where public notice and comment procedures are impracticable, unnecessary, or contrary to the public interest. Public notice and comment for this action is unnecessary because today's action to correct inadvertent regulatory text errors included in EPA's June 1, 2009, final rule is consistent with the substantive revision to the Florida SIP described therein related to the gasoline vapor recovery program for the Florida SIP. In addition, EPA can identify no particular reason why the public would be interested in having the opportunity to comment on the correction prior to this action being finalized, since this correction action does not change EPA's analysis or overall action related to the approval of the State's gasoline vapor recovery program into the Florida SIP.

EPA also finds that there is good cause under APA section 553(d)(3) for this correction to become effective on the date of publication of this action. Section 553(d)(3) of the APA allows an effective date less than 30 days after publication “as otherwise provided by the agency for good cause found and published with the rule.” 5 U.S.C. 553(d)(3). The purpose of the 30-day waiting period prescribed in APA section 553(d)(3) is to give affected parties a reasonable time to adjust their behavior and prepare before the final rule takes effect. Today's rule, however, does not create any new regulatory requirements such that affected parties would need time to prepare before the rule takes effect. Rather, today's action merely corrects inadvertent errors for the regulatory text of EPA's prior rulemaking for the Florida SIP. For these reasons, EPA finds good cause under APA section 553(d)(3) for this correction to become effective on the date of publication of this action.

Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely corrects an inadvertent error in the regulatory text of EPA's June 1, 2009, final rule addressing the gasoline vapor recovery program in the Florida SIP, and imposes no additional requirements beyond those imposed by state law. Accordingly, the Administrator certifies that this rule will not have a significant economic impact on a substantial number of small entities under the Regulatory Flexibility Act (5 U.S.C. 601 et seq.). Because this rule merely corrects an inadvertent error for the regulatory text of EPA's June 1, 2009, final rule addressing the gasoline vapor recovery program in the Florida SIP, and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This rule also does not have Federalism implications because it does not have substantial direct effects on the states, on the relationship between the national government and the states, or on the distribution of power and responsibilities among the various levels of government, as specified in Executive Order 13132 (64 FR 43255, August 10, 1999). This rule merely corrects inadvertent errors in the regulatory text of EPA's June 1, 2009, final rule addressing the gasoline vapor recovery program in the Florida SIP, and does not alter the relationship or the distribution of power and responsibilities established in the CAA. This rule also is not subject to Executive Order 13045 “Protection of Children from Environmental Health Risks and Safety Risks” (62 FR 19885, April 23, 1997), because it is not economically significant. In addition, this rule does not involve technical standards, thus the requirements of section 12(d) of the National Technology Transfer and Advancement Act of 1995 (15 U.S.C. 272 note) do not apply. This rule also does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

List of Subjects in 40 CFR Part 52

Environmental protection, Air pollution control, Incorporation by reference, Intergovernmental relations, Reporting and recordkeeping requirements, Volatile organic compounds.

Dated: November 12, 2013.
Beverly H. Banister,
Acting Regional Administrator, Region 4.

40 CFR part 52 is amended as follows:

PART 52-APPROVAL AND PROMULGATION OF IMPLEMENTATION PLANS

1. The authority citation for part 52 continues to read as follows:

Authority: 42 U.S.C. 7401 et seq.

Subpart K—Florida

2. Section 52.520(c) is amended:

a. Under Chapter 62-210, by revising the entries for “62-210.300,” “62-210.310,” and “62-210.920;”

b. Under Chapter 62-252, by revising the entries for “62-252.200,” “62-252.300,” “62-252.400,” and “62-252.500;” and

c. Under Chapter 62-296, by revising the entry for “62-296.418” to read as follows:

§ 52.520 Identification of plan.

* * * * *

(c) * * *

EPA-Approved Florida Regulations
State citation | Title/subject | State effective date | EPA approval date | Explanation
* * * * * * *
Chapter 62-210 Stationary Sources-General Requirements
* * * * * * *
62-210.300 | Permits Required | 5/9/2007 | 6/1/2009 63 FR 26103 |
62-210.310 | Air General Permits | 5/9/2007 | 6/1/2009 63 FR 26103 |
* * * * * * *
62-210.920 | Air General Permit Forms | 5/9/2007 | 6/1/2009 63 FR 26103 |
* * * * * * *
Chapter 62-252 Gasoline Vapor Control
* * * * * * *
62-252.200 | Definitions | 5/9/2007 | 6/1/2009 63 FR 26103 |
62-252.300 | Gasoline Dispensing Facilities-Stage I Vapor Recovery | 5/9/2007 | 6/1/2009 63 FR 26103 |
62-252.400 | Gasoline Dispensing Facilities Stage II Vapor Recovery | 5/9/2007 | 6/1/2009 63 FR 26103 |
62-252.500 | Gasoline Tanker Trucks | 5/9/2007 | 6/1/2009 63 FR 26103 |
* * * * * * *
Chapter 62-296 Stationary Sources-Emission Standards
* * * * * * *
62-296.418 | Bulk Gasoline Plants | 5/9/2007 | 6/1/2009 63 FR 26103 |
* * * * * * *

* * * * *

[FR Doc. 2013-28654 Filed 11-29-13; 8:45 am]

BILLING CODE 6560-50-P